DEPARTMENT OF THE INTERIOR

Geological Survey

[GX21RB00TU60200; OMB Control Number 1028-0123]

Agency Information Collection Activities; Current and Future Landsat User Requirements

AGENCY: U.S. Geological Survey, Interior.

ACTION: Notice of information collection; request for comment.

SUMMARY: In accordance with the Paperwork Reduction Act of 1995, we, the U.S. Geological Survey (USGS) are proposing renew an information collection. As required by the Paperwork Reduction Act (PRA) of 1995, and as part of our continuing efforts to reduce paperwork and respondent burden, we invite the general public and other Federal agencies to take this opportunity to comment on this IC.

DATES: Interested persons are invited to submit comments on or before May 21, 2021.

ADDRESSES: Written comments and recommendations for the proposed information collection should be sent within 30 days of publication of this notice to www.reginfo.gov/public/do/PRAMain. Find this particular information collection by selecting “Currently under 30-day Review—Open for Public Comments” or by using the search function. Send your comments on this information collection request (ICR) by mail to U.S. Geological Survey, Information Collections Officer, 12201 Sunrise Valley Drive MS 159, Reston, VA 20192; or by email to gs-info_collections@usgs.gov. Please reference OMB Control Number 1028-0123 in the subject line of your comments.

FOR FURTHER INFORMATION CONTACT: To request additional information about this ICR, contact Rudy Schuster, Branch Chief by email at schusterr@usgs.gov, or by telephone at (970)226-9165. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The USGS National Land Imaging (NLI) Program is currently planning for the next generation of Landsat satellites. These satellites will continue the multi-decadal continuous collection of moderate-resolution, multispectral, remotely-sensed imagery through the Landsat program. Landsat satellite imagery has been available at no cost to the public since 2008, which has resulted in the distribution of millions of scenes each subsequent year, as well tens of thousands of Landsat users registering with USGS to access the data. In order to continue to provide high quality imagery that meets the needs of users, NLI is collecting current and future user requirements for sensor and satellite attributes. These attributes include spatial resolution, spectral bands, frequency of acquisition, and many others. NLI will use the information from this collection to understand if they are currently meeting the needs of their user community and to help determine the features of future Landsat satellites. Questions will be asked to determine user characteristics, current uses of imagery, preferred attributes of Landsat imagery, and benefits of Landsat imagery. Previous surveys were provided to all U.S. Landsat imagery users who were registered with USGS and a large sample of international Landsat users were also invited. However, many changes have occurred, and many Landsat users are not registered with USGS, but instead access Landsat imagery through a variety of new platforms or cloud servers. The current and future user requirements for sensor and satellite attributes information from this user group has not been collected and is essential for future satellite decision-making within the NLI program.

To protect the confidentiality and privacy of survey respondents, the data from the survey will not be associated with any respondent's email address at any time and will only be analyzed and reported in aggregate. All files containing PII will be password-protected, housed on secure USGS servers, and only accessible to the research team. The data from the survey will be aggregated and statistically analyzed and the results will be published in publicly available USGS reports.

Title of Collection: Current and Future Landsat User Requirements.

OMB Control Number: 1028-0123

Form Number: None.

Type of Review: Extension without change of a currently approved collection.

Respondents/Affected Public: General public.

Total Estimated Number of Annual Respondents: 34,800.

Total Estimated Number of Annual Responses: 34,800.

Estimated Completion Time per Response: 20 minutes on average. We estimate that it will take 20 minutes per person to complete the full survey and 5 minutes per person to complete the non-response survey.

Total Estimated Number of Annual Burden Hours: 8,900.

Respondent's Obligation: Voluntary.

Frequency of Collection: One time.

Total Estimated Annual Nonhour Burden Cost: There are no “non-hour cost” burdens associated with this collection of information.

An agency may not conduct, or sponsor and a person is not required to respond to a collection of information unless it displays a currently valid OMB control number.

The authority for this action is the Paperwork Reduction Act of 1995 (44 U.S.C. 3501 et seq).

Timothy Newman,
Program Coordinator, National Land Imaging Program, US Geological Survey.

[FR Doc. 2021-08133 Filed 4-20-21; 8:45 am]

BILLING CODE 4338-11-P